DEPARTMENT OF HEALTH AND HUMAN SERVICES

Administration for Children and Families

Proposed Information Collection Activity; Comment Request

Proposed Projects: New Automated Community Services Block Grant (CSBG) Annual Report Form.

Title: Community Services Block Grant (CSBG) Annual Report.

OMB No.:

Description: Section 678E of the Community Services Block Grant (CSBG) Act requires States, including the District of Columbia and the Commonwealth of Puerto Rico, and U.S. territories, to annually prepare and submit a report on the measured performance of the State and the eligible entities in the State. Prior to the participation of the State in the performance measurement system, the State shall include in the report any information collected by the State relating to such performance. Each State shall also include in the report an accounting of the expenditure of funds received by the State through the CSBG program, including an accounting of funds spent on administrative costs by the State and the eligible entities, and funds spent by the eligible entities on the direct delivery of local services, and shall include information on the number of and characteristics of clients served under the subtitle in the State, based on data collected from the eligible entities. The State shall also include in the report a summary describing the training and technical assistance offered by the State.

This request will support new automated Annual Report forms, streamlining the administrative information, and incorporating Results Oriented Management and Accountability (required in Section 676(b)(12) of the CSBG Act). The revised and automated forms may impose an added first-use burden; however, this burden will diminish substantially in subsequent years. Copies of the proposed collection of information can be obtained by visiting http://www.acf.hhs.gov/programs/ocs/programs/csbg.

Respondents: State Governments, including the District of Columbia and the Commonwealth of Puerto Rico, and U.S. territories and CSBG Eligible Entities (Community Action Agencies).

Annual Burden Estimates
Instrument | Number of respondents | Number of responses per respondent | Average burden hours per response | Total burden hours
CSBG Annual Report (States) | 52 | 1 | 164 | 8,528
CSBG Annual Report (Eligible Entities) | 1,035 | 1 | 242 | 250,470

Estimated Total Annual Burden Hours: 258,998.

In compliance with the requirements of the Paperwork Reduction Act of 1995 (Pub. L. 104-13, 44 U.S.C. Chap. 35) Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-14229 Filed 6-15-16; 8:45 am]

BILLING CODE 4184-01-P